DEPARTMENT OF DEFENSE

Office of the Secretary

[Docket ID: DoD-2018-OS-0019]

Joint Rules of Appellate Procedure for Courts of Criminal Appeals; Proposed Changes

AGENCY: Joint Rules of Appellate Procedure for Courts of Criminal Appeals (JRAP) Committee, Department of Defense.

ACTION: Notice of availability of proposed changes to the Joint Rules of Appellate Procedure for Courts of Criminal Appeals.

SUMMARY: This notice announces proposed changes to the Joint Rules of Appellate Procedure for Courts of Criminal Appeals (JRAP), which prescribe uniform procedures for the service Courts of Criminal Appeals. Although these rules of practice and procedure fall within the Administrative Procedure Act's exemptions for notice and comment, the Department, as a matter of policy, has decided to make these changes available for public review and comment before they are implemented. The proposed changes implement the Military Justice Act of 2016 of the National Defense Authorization Act of 2017 and the 2018 Amendments to the Manual for Courts-Martial, United States. The approval authorities for these changes are the Judge Advocates General of the Army, Navy, Air Force, and Coast Guard.

DATES: Comments on the proposed changes must be received no later than May 17, 2018.

ADDRESSES: You may submit comments, identified by docket number and title by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Lieutenant Commander Rachel Trest, JAGC, USN, United States Navy-Marine Corps Court of Criminal Appeals, (202) 685-4621, rachel.e.trest@navy.mil.

SUPPLEMENTARY INFORMATION: As the proposed revisions to the JRAP are substantial, the full text of the proposed new JRAP is available electronically at www.regulations.gov, searchable by Docket ID: DoD-2018-OS-0019. The current text of the JRAP is available for comparison electronically at www.regulations.gov, searchable by Docket ID: DoD-2018-OS-0019.

The JRAP Committee invites members of the public to comment on the proposed new rules; such comments should address specific recommended changes and provide supporting rationale.

This notice is intended only to improve the internal management of the Federal Government. It is not intended to create any right or benefit, substantive or procedural, enforceable at law by any party against the United States, its agencies, its officers, or any person.

Dated: April 10, 2018.
Shelly E. Finke,
Alternate OSD Federal Register Liaison Officer, Department of Defense.

[FR Doc. 2018-07965 Filed 4-16-18; 8:45 am]

BILLING CODE 5001-06-P